DEPARTMENT OF COMMERCE

National Oceanic and Atmospheric Administration

RIN 0648-XV101

Council Coordination Committee Meeting

AGENCY: National Marine Fisheries Service (NMFS), National Oceanic and Atmospheric Administration (NOAA), Commerce.

ACTION: Notice of a public meeting.

SUMMARY: NMFS will host a meeting of the Council Coordination Committee (CCC), consisting of the Regional Fishery Management Council (Council) chairs, vice chairs, and executive directors on November 5 to November 7, 2019. The intent of this meeting is to discuss issues of relevance to the Councils and NMFS, including issues related to the implementation of the Magnuson-Stevens Fishery Conservation and Management Reauthorization Act (MSA). All sessions are open to the public.

DATES: The meeting will begin at 1:30 p.m. on Tuesday, November 5, 2019, recess at 5:30 p.m. or when business is complete; reconvene at 8:30 a.m. on Wednesday, November 6, 2018, and recess at 5:30 p.m. or when business is complete; reconvene at 8:30 a.m. on Thursday November 7, 2018, and adjourn by 12:30 p.m. or when business is complete.

ADDRESSES: The meeting will be held at the Omni Shoreham, 2500 Calvert Street NW, Washington, DC, Telephone: 202-234-0700.

FOR FURTHER INFORMATION CONTACT: Diane Daly: telephone 301-427-8573 or email at Diane.Daly@noaa.gov.

SUPPLEMENTARY INFORMATION: The Magnuson-Stevens Fishery Conservation and Management Reauthorization Act established the CCC by amending Section 302 (16 U.S.C. 1852) of the MSA. The committee consists of the chairs, vice chairs, and executive directors of each of the eight Councils authorized by the MSA or other Council members or staff. Updates to this meeting and additional information will be posted on http://www.fisherycouncils.org/ccc-meetings/november-2019-ccc-meeting and https://www.fisheries.noaa.gov/national/partners/council-coordination-committee when available.

Proposed Agenda

The order in which the agenda items are addressed may change. The CCC will meet as late as necessary to complete scheduled business.

Tuesday, November 5, 2019, 1:30 p.m.-5:30 p.m.

• Welcome and Introductions

• Background Report and May CCC Meeting Report

• NMFS Update and FY 2020 Priorities

• Legislative Outlook and MSA Reauthorization and Roundtable Discussions

Wednesday, November 6, 2019, 8:30 a.m.-5:30 p.m.

• Alternative Fishery Management Approaches for Recreational Fisheries

• Allocations with Assessments Based on New Marine Recreational Information Program (MRIP) Data

• NMFS Science Enterprises Updates and Response to Council Research Priorities

• National Standard 1 Technical Guidance Work Group Updates

• CCC input for Committee of Fisheries

• Marine Fisheries Advisory Committee (MAFAC) Orientation

• Biodiversity Beyond National Jurisdictions (BBNJ)

• NMFS website

Thursday, November 7, 2019, 8:30 a.m.-12:30 p.m.

• Management and Budget FY 2020 Update

• CCC Committees and Work Group Reports

• Other Business and Wrap Up

Special Accommodations

This meeting is physically accessible to people with disabilities. Requests for sign language interpretation or other auxiliary aids should be directed to Diane Daly at 301-427-8573 at least five working days prior to the meeting.

Dated: October 7, 2019.
Jennifer M. Wallace,
Acting Director, Office of Sustainable Fisheries, National Marine Fisheries Service.

[FR Doc. 2019-22284 Filed 10-10-19; 8:45 am]

BILLING CODE 3510-22-P